DEPARTMENT OF TRANSPORTATION

Federal Aviation Administration

14 CFR Part 39

[Docket No. FAA-2011-1420; Directorate Identifier 2011-CE-035-AD; Amendment 39-16905; AD 2011-27-04]

RIN 2120-AA64

Airworthiness Directives; Hawker Beechcraft Corporation Airplanes Equipped With a Certain Supplemental Type Certificate (STC)

AGENCY: Federal Aviation Administration (FAA), DOT.

ACTION: Final rule; request for comments.

SUMMARY: We are adopting a new airworthiness directive (AD) for all Hawker Beechcraft Corporation Models 95-C55, D55, E55, 58, and 58A airplanes equipped with a certain STC. This AD requires assuring the airspeed indicator(s) and/or airspeed limitations placard(s) have the correct minimum control speed (VMC) markings for the STCs installed. This AD was prompted by information that suggests the affected airplane models with a certain STC installed may not have the appropriate VMC markings on the airspeed indicator(s). We are issuing this AD to correct the unsafe condition on these products.

DATES: This AD is effective December 29, 2011.

We must receive comments on this AD by February 13, 2012.

ADDRESSES: You may send comments, using the procedures found in 14 CFR 11.43 and 11.45, by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: (800) 647-5527) is in the ADDRESSES section. Comments will be available in the AD docket shortly after receipt.

FOR FURTHER INFORMATION CONTACT: Eric B. Potter, Aerospace Engineer, Atlanta Aircraft Certification Office, FAA, 1701 Columbia Avenue, College Park, Georgia 30337; phone: (404) 474-5583; fax: (404) 474-5606; email: eric.potter@faa.gov.

SUPPLEMENTARY INFORMATION:

Discussion

On a Hawker Beechcraft Corporation Model 58 airplane, we found that STC SA1762SO (installation of vortex generators) and STC SA4016NM (Foxstar Baron modification that included installation of winglets and different engines and propellers) were installed. The airplane flight manual (AFM) supplements for both STCs contained different VMC limitations. The airspeed indicator was marked in accordance with STC SA4016NM when it should have been marked with the higher VMC specified for STC SA1762SO.

Other affected Hawker Beechcraft Corporation airplanes with STC SA1762SO installed may have other STCs or modifications installed that affect VMC. Those modified airplanes may not have VMC accurately marked on the airspeed indicator(s). Whenever an STC is installed, the relationship between the STC being installed and other STCs already installed on the airplane should be properly analyzed to assure there are no adverse effects on the airworthiness of the modified airplane.

The installation of multiple STCs affecting VMC on the same airplane could result in conflicting operating limitations. The airspeed limitations placard(s) and the airspeed indicator(s) must be correctly marked with the highest VMC limitation stated in the AFM, AFM supplements, and pilot operating handbooks (POHs), unless FAA-approved testing has been done to determine the correct VMC and a new AFM supplement has replaced the conflicting supplements. Therefore, the VMC limitation stated in the AFM, AFM supplements, and POHs must be reviewed for each airplane to assure the highest VMC limitation is identified.

Hawker Beechcraft Corporation Models 95-C55, D55, E55, 58, and 58A airplanes may also have STC SA1762SO installed and be subject to this unsafe condition. This condition, if not corrected, could result in sudden and unexpected loss of aircraft control during single engine operation.

FAA's Determination

We are issuing this AD because we evaluated all the relevant information and determined the unsafe condition described previously is likely to exist or develop in other products of the same type design.

The FAA is still evaluating the subject matter presented in this AD. While the unsafe condition identified in this AD is addressed on the airplanes affected by this AD, our evaluation may lead us to consider additional rulemaking on this subject on these and/or other aircraft.

AD Requirements

On all Hawker Beechcraft Corporation Models 95-C55, D55, E55, 58, and 58A airplanes equipped with STC SA1762SO, this AD requires inspecting all installed placards, POHs, and airplane flight manual supplements to identify other modifications that may affect VMC and accurately marking the VMC on the airspeed indicator(s) or installing a placard(s) specifying the correct VMC. This AD may also require establishing a new one-engine-inoperative speed (VSSE) if the existing VSSE is inaccurate.

FAA's Justification and Determination of the Effective Date

An unsafe condition exists that requires the immediate adoption of this AD. The FAA has found that the risk to the flying public justifies waiving notice and comment prior to adoption of this rule because incorrect VMC markings on the airspeed indicator(s) could result in sudden and unexpected loss of aircraft control in the event of an actual engine failure or simulated engine failure during a training flight. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2011-1420 and Directorate Identifier 2011-CE-035-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 400 airplanes of U.S. registry.

We estimate the following costs to comply with this AD:

Estimated Costs
Action | Labor cost | Parts cost | Cost per product | Cost on U.S. operators
Inspection of AFM supplements for installation of other STCs that may affect VMC | 1 work-hour × $85 per hour = $85 | Not applicable | $85 | $34,000

We estimate the following costs to do any necessary placards and/or airspeed indicator remarking that will be required based on the results of the inspection. We have no way of determining the number of aircraft that might need these actions:

On-Condition Costs
Action | Labor cost | Parts cost | Cost per product
Installation of placard(s) for appropriate VMC | 1 work-hour × $85 per hour = $85 | $10 | $95
Remarking of the airspeed indicator(s) and/or airspeed limitations placard(s) | $2 work-hours × $85 per hour = $170 | 200 | 370

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-27-04 Hawker Beechcraft Corporation: Amendment 39-16905; Docket No. FAA-2011-1420; Directorate Identifier 2011-CE-035-AD.

(a) Effective Date

This AD is effective December 29, 2011.

(b) Affected ADs

None.

(c) Applicability

This AD applies to Hawker Beechcraft Corporation Models 95-C55, D55, E55, 58, and 58A airplanes, all serial numbers that are:

(1) equipped with Supplemental Type Certificate (STC) SA1762SO; and

(2) certificated in any category.

Note 1: STC SA1762SO is sometimes referred to as the “Foxstar modification.” This modification includes new Continental IO-550 engines, new Hartzell 4-bladed propellers, and the addition of winglets.

(d) Subject

Joint Aircraft System Component (JASC)/Air Transport Association (ATA) of America Code 34; Airspeed Indicator.

(e) Unsafe Condition

This AD was prompted by information that suggests the affected airplane models with STC SA1762SO installed may not have the correct minimum control speed (VMC) markings on the airspeed indicator(s). We are issuing this AD to correct the unsafe condition on these products.

(f) Compliance

Comply with this AD within the compliance times specified, unless already done.

(g) VMC Markings

Within the next 10 hours time-in-service (TIS) after December 29, 2011 (the effective date of this AD) or within the next 30 days after December 29, 2011 (the effective date of this AD), whichever occurs first, inspect all added placards, pilot operating handbooks (POHs), and airplane flight manual (AFM) supplements to identify modifications other than STC SA1762SO that state a VMC limitation.

Note 2: The abbreviation VMC for minimum control speed used in this AD may be identified in the AFM and AFM supplements as VMCA.

(1) If no modifications that state a VMC limitation are identified, other than STC SA1762SO, within the compliance time specified in paragraph (g) of this AD, inspect the VMC marking on the airspeed indicator(s) and airspeed limitations placard(s) to assure they are marked accurately to match the VMC specified in the AFM supplement associated with STC SA1762SO.

(i) If the VMC marking on both the airspeed indicator(s) and the airspeed limitations placard(s) do match the VMC specified in the AFM supplement associated with STC SA1762SO, paragraph (g)(1)(iii) is the only other action required by this AD.

(ii) If either the VMC marking on the airspeed indicator(s) or the airspeed limitations placard(s) do not match the VMC specified in the AFM supplement associated with STC SA1762SO, before further flight after the inspection required in paragraph (g)(1) of this AD, install a temporary placard(s) for the airspeed indicator(s) and/or install a temporary placard(s) over the VMC marked on the airspeed limitations placard(s), as applicable.

(A) The VMC as specified on both the airspeed indicator(s) or temporary placard(s) and the airspeed limitations placard(s) must match the VMC specified in the AFM supplement associated with STC SA1762SO, following the instructions in paragraph (h) of this AD.

(B) Before further flight after the inspection required in paragraph (g)(1) of this AD, you may have the airspeed indicator(s) permanently remarked and/or permanently remark the airspeed limitations placard(s) as required in paragraph (i), Remarking the Airspeed Indicator(s) and the Airspeed Limitations Placard(s), of this AD in lieu of installing the temporary placard(s) for the airspeed indicator(s) and/or installing the temporary placard(s) for the VMC on the airspeed limitations placard(s).

(iii) If the AFM lists an intentional one-engine-inoperative speed (VSSE), you must use the formula below in paragraph (g)(1)(iii)(A) of this AD and establish a new VSSE, unless the existing VSSE is equal to or greater than the VSSE determined by the formula. If the AFM does not state a VSSE, skip forward to the actions required in paragraph (h) of this AD, Temporary Airspeed Indicator(s) and Temporary Airspeed Limitations Placard(s) Installation.

(A) New VSSE = ((VSSE from the AFM)/(VMC from the AFM)) × (VMC from the AFM supplement associated with STC SA1762SO).

(B) If necessary, insert the following language for the new VSSE into the AFM in all areas that refer to VSSE: “The revised VSSE is ____ in accordance with AD 2011-27-04.”

(2) If modifications that state a VMC limitation are identified, in addition to STC SA1762SO, within the compliance time specified in paragraph (g) of this AD, inspect the VMC marking on the airspeed indicator(s) and the airspeed limitations placard(s) to assure they match and are marked accurately with the highest VMC specified in either the AFM or any placards and/or AFM supplements associated with any modifications that state a VMC limitation.

(i) If the VMC marking on the airspeed indicator(s) and the airspeed limitations placard(s) match and are marked with the highest VMC specified in either the AFM or any placards and/or AFM supplements associated with any modifications that affect VMC, skip forward to the actions required in paragraph (g)(2)(iii) of this AD.

(ii) If the VMC marking on the airspeed indicator(s) and the airspeed limitations placard(s) do not match and/or are not marked with the highest VMC specified in either the AFM or any placards and/or AFM supplements associated with any modifications that affect VMC, before further flight after the inspection required in paragraph (g)(2), install a temporary placard(s) for the airspeed indicator(s) and/or install a temporary placard(s) over the VMC marked on the airspeed limitations placard(s), as applicable.

(A) The VMC on both the airspeed indicator(s) and the airspeed limitations placard(s) must match the highest VMC specified in either the AFM or any placards and/or AFM supplements associated with any modifications that affect VMC, following the instructions in paragraph (h) of this AD, Temporary Airspeed Indicator(s) and Temporary Airspeed Limitations Placard(s) Installation.

(B) Before further flight after the inspection required in paragraph (g)(2), you may have the airspeed indicator(s) permanently remarked and/or permanently remark the airspeed limitations placard(s) as required in paragraph (i), Remarking the Airspeed Indicator(s) and the Airspeed Limitations Placard(s), of this AD in lieu of installing the temporary placard(s) for the airspeed indicator(s) and/or installing the temporary placard(s) for the VMC on the airspeed limitations placard(s).

(iii) If the AFM or any of the AFM supplements that state a VMC limitation also list a VSSE, you must use the formula below in paragraph (g)(2)(iii)(A) of this AD and establish a new VSSE, unless the existing VSSE is equal to or greater than the VSSE determined by the formula. If the AFM or any of the AFM supplements do not list a VSSE, skip forward to the actions required in paragraph (h) of this AD, Temporary Airspeed Indicator(s) and Temporary Airspeed Limitations Placard(s) Installation.

(A) New VSSE = ((VSSE from the AFM)/(VMC from the AFM)) × (VMC as determined by paragraph (g)(2) of this AD).

(B) If the VSSE listed in the AFM or any AFM supplements that state a VMC limitation is higher than the VSSE determined by paragraph (g)(2)(iii)(A) of this AD above, then the highest of all these values shall be the new VSSE.

(C) If necessary, insert the following language for the new VSSE into the AFM in all areas that refer to VSSE, including AFM supplements: “The revised VSSE is ____ in accordance with AD 2011-27-04.”

(h) Temporary Airspeed Indicator(s) and Temporary Airspeed Limitations Placard(s) Installation

(1) If required by the actions in paragraph (g)(1)(ii) or (g)(2)(ii) of this AD, fabricate a temporary placard(s) (using at least ⅛-inch black letters on a white background) with the following words and install the placard(s) on the instrument panel in the nearest practical location to the airspeed indicator(s) within the pilot's clear view: “VMC = ____ .” Insert in the blank space the VMC as determined by the actions required in either paragraph (g)(1)(ii) or (g)(2)(ii) of this AD.

(2) If the VMC on the existing airspeed limitations placard is different than determined in either paragraph (g)(1)(ii) or (g)(2)(ii) of this AD, fabricate a temporary placard(s) (using letter sizes similar to those on the existing airspeed limitations placard(s) with black letters on a white background) with the VMC as determined by the actions required in either paragraph (g)(1)(ii) or (g)(2)(ii) of this AD and install the placard(s) over the VMC listed on the existing airspeed limitations placard(s).

Note 3: You may use FAA Advisory Circular 43.13-2B for additional guidance on installing placards. You can find Advisory Circular 43.13-2B at http://rgl.faa.gov/Regulatory_and_Guidance_Library/rgAdvisoryCircular.nsf.

(i) Remarking the Airspeed Indicator(s) and the Airspeed Limitations Placard(s)

(1) If during either of the inspections required in paragraphs (g)(1) or (g)(2) of this AD, the VMC marking on the airspeed indicator(s) was not marked accurately and required immediate temporary corrective action (placard), within the next 12 months after December 29, 2011 (the effective date of this AD), permanently remark the airspeed indicator(s) with the correct VMC marking. This instrument modification must be done by an appropriately rated repair facility.

(i) After the airspeed indicator(s) has been remarked, mark the airspeed indicator(s) instrument casing to clearly indicate that the markings comply with this AD stating “Modified in compliance with AD 2011-27-04, refer to AD 2011-27-04 for replacement part criteria.”

(ii) Any replacement airspeed indicator must also meet the VMC marking requirements in paragraphs (i)(1) and (i)(1)(i) of this AD.

(iii) After the VMC has been remarked as required in this paragraph, you may remove the temporary placard(s) installed as required in paragraph (g)(1)(ii) and (g)(2)(ii) of this AD.

(iv) Instead of installing the temporary placard(s) after either of the inspections when it is determined the VMC marking on the airspeed indicator(s) is not marked accurately, you may permanently remark the airspeed indicator(s) as required in paragraph (i), Remarking the Airspeed Indicator(s) and the Airspeed Limitations Placard(s), of this AD provided it is done before further flight.

(2) If during either of the inspections required in paragraphs (g)(1) or (g)(2) of this AD, the VMC marking on the airspeed limitations placard(s) was not marked accurately and required immediate temporary corrective action (placard), within the next 12 months after December 29, 2011 (the effective date of this AD), permanently remark or remake the airspeed limitations placard(s) with the correct VMC marking.

(j) Alternative Methods of Compliance (AMOC)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(k) Related Information

For more information about this AD, contact Eric B. Potter, Aerospace Engineer, Atlanta ACO, FAA, 1701 Columbia Avenue, College Park, Georgia 30337; phone: (404) 474-5583; fax: (404) 474-5606; email: eric.potter@faa.gov.

Issued in Kansas City, Missouri, on December 21, 2011.
Earl Lawrence,
Manager, Small Airplane Directorate, Aircraft Certification Service.

[FR Doc. 2011-33344 Filed 12-28-11; 8:45 am]

BILLING CODE 4910-13-P